DEPARTMENT OF HEALTH AND HUMAN SERVICES

Centers for Medicare & Medicaid Services

42 CFR Part 418

[CMS-1629-CN]

RIN 0938-AS39

Medicare Program; FY 2016 Hospice Wage Index and Payment Rate Update and Hospice Quality Reporting Requirements; Correction

AGENCY: Centers for Medicare & Medicaid Services (CMS), HHS.

ACTION: Final rule; correction.

SUMMARY: This document corrects technical errors that appeared in the final rule published in the Federal Register on August 6, 2014 entitled “Medicare Program; FY 2016 Hospice Wage Index and Payment Rate Update and Hospice Quality Reporting Requirements.”

DATES: Effective Date: October 1, 2015.

FOR FURTHER INFORMATION CONTACT: Sharon Ventura, (410) 786-1985. HospicePolicy@cms.hhs.gov.

SUPPLEMENTARY INFORMATION:

I. Background

In FR Doc. 2015-19033 of August 6, 2015 (80 FR 47142), there were a number of technical errors that are identified and corrected in the Correction of Errors section below. The provisions in this correction document are effective as if they had been included in the document published August 6, 2015. Accordingly, the corrections are effective October 1, 2015.

II. Summary of Errors

On page 47182, we inadvertently listed the incorrect hourly rate for continuous home care. We listed $38.67 instead of $38.59. On page 47203, we referenced Table H1 instead of Table 29. In addition, on page 47205, we referenced Table H2 instead of Table 30. This notice corrects theses errors.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived; however, if an agency finds for good cause that the delay is impracticable, unnecessary, or contrary to the public interest, and the agency incorporates a statement of the findings and its reasons in the rule issued.

IV. Correction of Errors

In FR Doc. 2015-19033 of August 6, 2015 (80 FR 47142), make the following corrections:

1. On page 47182, in Table 25—“FY 2016 Hospice Payment Rates For CHC, IRC, and GIP For Hospices That Do Not Submit The Required Quality Data,” for Code 652, in the “Description” column, the figure “38.67” is corrected to read “38.59”.

2. On page 47203, in the third column, in the first full paragraph, first line, the reference to “Table H1” is corrected to read “Table 29”.

3. On page 47205, in the second column, third line, the reference to “Table H2” is corrected to read “Table 30”.

Dated: September 30, 2015.
Madhura Valverde,
Executive Secretary to the Department, Department of Health and Human Services.

[FR Doc. 2015-25267 Filed 9-30-15; 4:15 pm]

BILLING CODE 4120-01-P